DEPARTMENT OF THE INTERIOR

National Park Service

[NPS-WASO-BSD-CONC-10000; PPWOBSADC0, PPMVSCS1Y.Y00000]

Information Collection Request Sent to the Office of Management and Budget (OMB) for Approval; Commercial Use Authorizations

AGENCY: National Park Service, Interior.

ACTION: Notice; request for comments.

SUMMARY: We (National Park Service) have sent an Information Collection Request (ICR) to OMB for review and approval. We summarize the ICR below and describe the nature of the collection and the estimated burden and cost. We may not conduct or sponsor and you are not required to respond to a collection of information unless it displays a currently valid OMB control number.

DATES: You must submit comments on or before August 22, 2013.

ADDRESSES: Send your comments and suggestions on this information collection to the Desk Officer for the Department of the Interior at OMB-OIRA at (202) 395-5806 (fax) or OIRA_Submission@omb.eop.gov (email). Please provide a copy of your comments to Madonna L. Baucum, Information Collection Clearance Officer, National Park Service, 1849 C Street NW. (MS 2601), Washington, DC 20042 (mail); or madonna_baucum@nps.gov (email). Please include “1024-CUA” in the subject line of your comments.

FOR FURTHER INFORMATION CONTACT: To request additional information about this ICR, contact Paul Chalfant at Paul_Chalfant@nps.gov (email) or (928) 638-7900 (telephone). You may review the ICR online at http://www.reginfo.gov. Follow the instructions to review Department of the Interior collections under review by OMB.

SUPPLEMENTARY INFORMATION:

OMB Control Number: None. This is a new collection.

Title: Commercial Use Authorizations.

Service Form Number(s): 10-550, 10-660, and 10-660A.

Type of Request: Existing collection in use without an OMB control number.

Description of Respondents: Individuals and businesses.

Respondent's Obligation: Required to obtain or retain a benefit.

Frequency of Collection: On occasion for applications; monthly and annually for reports.

Activity | Number of respondents | Number of annual responses | Completion time per response | Total annual burden hours
Form 10-550 (Application) | 5,250 | 5,250 | 2.5 hours | 13,125
Form 10-660 (Annual Report) | 7,100 | 7,100 | 1.25 hours | 8,875
Form 10-660A (Monthly Report) | 7,100 | 63,900 | 45 minutes | 47,925
TOTALS | 19,450 | 76,250 |  | 69,925

Estimated Annual Nonhour Burden Cost: $525,000 associated with application fees.

Abstract: Conducting commercial operations in a unit of the National Park System without a contract, permit, commercial use authorization, or some other written agreement is prohibited. Section 418, Public Law 105-391 (16 U.S.C. 5966) gives the Secretary of the Interior the authority to authorize a private person, corporation, or other entity to provide services to visitors in units of the National Park System through a Commercial Use Authorization (CUA). Such authorizations are not considered concession contracts. We authorize commercial operations that originate and operate entirely within a park (in-park); commercial operations that provide services originating and terminating outside of the park boundaries; noncommercial organized children's camps, outdoor clubs, and nonprofit institutions; and other uses as the Secretary determines appropriate. The commercial operations include a range of services, such as mountain climbing guides, boat repair services, transportation services and tours, canoe livery operations, hunting guides, retail sales at festivals, fun runs, catering services, and dozens of other visitor services.

We collect information on the CUA application (Form 10-650), the CUA Annual Report (Form 10-660), and CUA Monthly Report (Form 10-660A). We use the information from these forms to:

• Manage the program and operations.

• Determine the qualifications and abilities of the commercial operators to provide a high quality, safe, and enjoyable experience for park visitors.

• Determine the impact on the parks natural and cultural resources.

• Manage the use and impact of multiple operators.

Comments: On April 11, 2011, we published in the Federal Register (76 FR 2007) a notice requesting public comment on this information collection. The comment period ended on June 10, 2011. We received one comment in response to this notice. The commenter did not address the information collection requirements, but stated that the Government should be transparent and that CUA holders and fees should be posted on the Internet. Each park issuing CUAs publishes the holder's contact information, the service(s) provided, and fee information on the park Web site. We did not made any changes to our information collection based on this comment.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: July 17, 2013.
Madonna L. Baucum,
Information Collection Clearance Officer, National Park Service.

[FR Doc. 2013-17652 Filed 7-22-13; 8:45 am]

BILLING CODE 4310-EH-P